DEPARTMENT OF THE INTERIOR

Bureau of Land Management

[MT-922-08-1310-FI-P;SDM 90990]

Notice of Proposed Reinstatement of Terminated Oil and Gas Lease SDM 90990

AGENCY: Bureau of Land Management, Interior.

ACTION: Notice.

SUMMARY: Per 30 U.S.C. 188(d), GPE Energy, Inc. and Spyglass Cedar Creek LP timely filed a petition for reinstatement of oil and gas lease SDM 90990, Harding County, South Dakota. The lessee paid the required rental accruing from the date of termination.

No leases were issued that affect these lands. The lessee agrees to new lease terms for rentals and royalties of $10 per acre and 16-2/3 percent or 4 percentages above the existing competitive royalty rate. The lessee paid the $500 administration fee for the reinstatement of the lease and $163 cost for publishing this Notice.

The lessee met the requirements for reinstatement of the lease per Sec. 31(d) and (e) of the Mineral Leasing Act of 1920 (30 U.S.C. 188). We are proposing to reinstate the lease, effective the date of termination subject to:

• The original terms and conditions of the lease;

• The increased rental of $10 per acre;

• The increased royalty of 16 2/3 percent or 4 percentages above the existing competitive royalty rate; and

• The $163 cost of publishing this Notice.

FOR FURTHER INFORMATION CONTACT: Karen L. Johnson, Chief, Fluids Adjudication Section, BLM Montana State Office, 5001 Southgate Drive, Billings, Montana 59101-4669, 406-896-5098.

Dated: December 19, 2007.
Karen L. Johnson,
Chief, Fluids Adjudication Section.

[FR Doc. E7-25382 Filed 12-28-07; 8:45 am]

BILLING CODE 4310-$$-P